DEPARTMENT OF THE INTERIOR

National Park Service

National Register of Historic Places; Notification of Pending Nominations

Nominations for the following properties being considered for listing in the National Register were received by the National Park Service before January 25, 2003. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, (202) 343-1836. Written or faxed comments should be submitted by March 6, 2003.

Carol D. Shull,
Keeper of the National Register of Historic Places.

ARKANSAS

Conway County

Morrilton Commercial Historic District, Roughly bounded by E. Railroad, Broadway, N. Division and N. Moose Sts., Morrilton, 03000085.

KENTUCKY

Harlan County

Lynch Historic District, Roughly bounded by city limits, L&N RR bed, Big Looney Cr., Second, Mountain, Highland Terrace, Liberty, and Church Sts., Lynch, 03000086.

Mercer County

Lexington, Harrodsburg, and Perryville Turnpike Rural Historic District, US 68, Harrodsburg, 03000087.

MISSOURI

Greene County

South—McDaniel—Patton Commerical Historic District, (Springfield, Missouri MPS (Additional Documentation)), Roughly bounded by S. Campbell Ave., W. McDaniel St., South Ave., and W. Walnut St., Springfield, 03000088.

MONTANA

Cascade County

Neihart School, 200 S. Main St., Neihart, 03000089.

NEW YORK

Cattaraugus County

Robbins, Simeon B., House, 9 Pine St., Franklinville, 03000091.

Fulton County

Sacandaga Railroad Station, 136 McKinley Ave., Sacandaga Park, 03000094.

Monroe County

Cox, Isaac, Cobblestone Farmstead, 5015 River Rd., Scottsville, 03000092.

Oneida County

Black River Canal Warehouse, 502 Water St., Boonville, 03000093.

Queens County

Church of the Resurrection, 85-09 118th St., Kew Gardens, Borough of Queens, 03000090.

OKLAHOMA

Ottawa County

Tri-State Zinc and Lead Ore Producers Association Office, 508 N. Connell Ave., Picher, 03000097.

Sequoyah County

First Presbyterian Church, 120 S. Oak St., Sallisaw, 03000096.

Tulsa County

Broken Arrow Elementary—Junior High School, 210 N. Main, Broken Arrow, 03000095.

Circle Theater, 10 S. Lewis Ave., Tulsa, 03000098.

Wagoner County

First Presbyterian Church of Coweta, 200 S Ave. B, Coweta, 03000099.

PUERTO RICO

San Juan Municipality

Puerto Rico Island Penitentiary, S of PR 21, Rio Piedras, 03000100.

TEXAS

Hays County

Michaelis, M.G., Ranch, 3600 FM 150 W, Kyle, 03000101.

[FR Doc. 03-3958 Filed 2-18-03; 8:45 am]

BILLING CODE 4310-70-P